DEPARTMENT OF JUSTICE

Office of Justice Programs

[OJP (OVC) Docket No. 1672]

Office for Victims of Crime

Amendment to the Anti-Terrorism and Emergency Assistance Program Guidelines

AGENCY: Office for Victims of Crime.

ACTION: Notice.

SUMMARY: The U.S. Department of Justice, Office of Justice Programs, Office for Victims of Crime (OVC) announces a minor clarifying amendment to its Anti-Terrorism Emergency Assistance Program (AEAP) Guidelines.

DATES: This amendment will go into effect on October 31, 2014.

FOR FURTHER INFORMATION CONTACT: Eugenia Pedley, Program Manager, Office for Victims of Crime, at 202-307-5983.

SUPPLEMENTARY INFORMATION: The U.S. Department of Justice, Office of Justice Programs, Office for Victims of Crime (OVC) published a notice soliciting comments on the proposed amendment to the Anti-Terrorism Emergency Assistance Program (AEAP) Guidelines (available at 67 FR 4822, and at http://www.gpo.gov/fdsys/pkg/FR-2002-01-31/pdf/02-2299.pdf), on July 18, 2014 (79 FR 42055), and received no comments. OVC now amends section V.D. of its AEAP Guidelines, as described in the July notice, to read as follows:

D. Crime Victim Compensation Grants are designed to provide supplemental funding to a state crime victim compensation program that reimburses victims for out-of-pocket expenses related to their victimization in cases of terrorism or mass violence occurring within the United States. Grant funds may be used to pay claims to victims for costs that include, but are not limited to, medical and mental health counseling costs, funeral and burial costs, and lost wages. (See Section VI for other allowable activities and costs.) Emergency Reserve funds may not be used to cover property damage or property loss. (See “Definitions” section of these Guidelines.) OVC may provide funding to the state program, public agencies, or other organizations to cover expenses not traditionally covered (whether in amount or type) by state crime victim compensation programs. OVC will coordinate such awards with state crime victim compensation programs, in the event that such an award is made to another organization.

In the event that a state recovers expenses on behalf of a victim from a collateral source, the amount recovered must be used either (1) to assist other victims of the same crime for which funds were awarded, or (2) returned to OVC and deobligated in accordance with the applicable provisions of the OJP Financial Guide and Section 1402(e)of VOCA.

As noted in the July notice, the amendment is not intended to, and will not, affect any state authority governing state compensation programs. It merely clarifies that that state administering agencies for state crime victim compensation programs may apply for and administer (if awarded discretionary funding by OVC, if the state accepts the funding, and if allowable under state law and regulation) supplemental crime victim compensation grants that cover reimbursement of expenses not traditionally covered (in amount and/or type) by the applicant state's crime victim compensation program. The amendments corrects a potential ambiguity so as to reduce potential delay in awarding critical funding after an incident of mass violence or terrorism.

Joye E. Frost,
Director, Office for Victims of Crime.

[FR Doc. 2014-23343 Filed 9-30-14; 8:45 am]

BILLING CODE 4410-18-P